DEPARTMENT OF THE INTERIOR

National Park Service

[NPS-WASO-NAGPRA-21347; PPWOCRADN0-PCU00RP14.R50000]

Notice of Inventory Completion: Office of the State Archaeologist, University of Iowa, Iowa City, IA

AGENCY: National Park Service, Interior.

ACTION: Notice.

SUMMARY: The Office of the State Archaeologist Bioarchaeology Program, previously listed as the Office of the State Archaeologist Burials Program, has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Office of the State Archaeologist Bioarchaeology Program. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Office of the State Archaeologist Bioarchaeology Program at the address in this notice by August 4, 2016.

ADDRESSES: Dr. Lara Noldner, Office of the State Archaeologist Bioarchaeology Program, University of Iowa, 700 South Clinton Street, Iowa City, IA 52242, telephone (319) 384-0740, email lara-noldner@uiowa.edu.

SUPPLEMENTARY INFORMATION: Notice is here given in accordance with the Native American Graves Protection and Repatriation Act (NAGPRA), 25 U.S.C. 3003, of the completion of an inventory of human remains under the control of the Office of the State Archaeologist Bioarchaeology Program, University of Iowa, Iowa City, IA. The human remains were removed from Northern California.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Office of the State Archaeologist Bioarchaeology Program professional staff in consultation with the Native American Heritage Commission and representatives of the Big Sandy Rancheria of Western Mono Indians of California (previously listed as the Big Sandy Rancheria of Mono Indians of California); the Chicken Ranch Rancheria of Me-Wuk Indians of California; the Cold Springs Rancheria of Mono Indians of California; the Ione Band of Miwok Indians of California; the Jackson Band of Miwuk Indians (previously listed as the Jackson Rancheria of Me-Wuk Indians of California); the Northfork Rancheria of Mono Indians of California; the Santa Rosa Indian Community of the Santa Rosa Rancheria, California; the Shingle Springs Band of Miwok Indians, Shingle Springs Rancheria (Verona Tract), California; the Table Mountain Rancheria of California; the Tule River Indian Tribe of the Tule River Reservation, California; and the Tuolumne Band of Me-Wuk Indians of the Tuolumne Rancheria of California, hereafter referred to as “The Tribes”.

History and Description of the Remains

At an unknown date, human remains representing, at minimum, one individual were removed from an unknown location, possibly in Northern California. The human remains were held by a private citizen, whose son donated the human remains to the Office of the State Archaeologist Bioarchaeology Program in May 1997. The cranial remains represent an adult male, approximately 25 to 35 years old (Burial Project 1135). No known individuals were identified. No associated funerary objects are present.

The overall condition of the bone suggests antiquity. Cranio-facial morphology and dental wear indicate the individual is Native American. Limited provenience information indicates the human remains are from northern California, a region occupied by Yokut-speaking peoples well before European contact. Archeological, linguistic, ethnographic and oral historical evidence suggests that the Yokuts and their ancestors inhabited the region since 500 B.C.

Determinations Made by the Office of the State Archaeologist Bioarchaeology Program

Officials of the Office of the State Archaeologist Bioarchaeology Program have determined that:

• Pursuant to 25 U.S.C. 3001(9), the human remains described in this notice represent the physical remains of one individual of Native American ancestry.

• Pursuant to 25 U.S.C. 3001(2), there is a relationship of shared group identity that can be reasonably traced between the Native American human remains and The Tribes.

Additional Requestors and Disposition

Lineal descendants or representatives of any Indian tribe or Native Hawaiian organization not identified in this notice that wish to request transfer of control of these human remains should submit a written request with information in support of the request to Dr. Lara Noldner, Office of the State Archaeologist Bioarchaeology Program, University of Iowa, 700 S Clinton Street, Iowa City, IA 52242, telephone (319) 384-0740, email lara-noldner@uiowa.edu, by August 4, 2016. After that date, if no additional requestors have come forward, transfer of control of the human remains to The Tribes may proceed.

The Office of the State Archaeologist Bioarchaeology Program is responsible for notifying The Tribes that this notice has been published.

Dated: June 20, 2016.
Melanie O'Brien,
Manager, National NAGPRA Program.

[FR Doc. 2016-15841 Filed 7-1-16; 8:45 am]

BILLING CODE 4312-50-P